FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
[September 1, 2017 thru September 30, 2017]
09/01/2017
20171512 | G | Legrand S.A.; Server Technology Inc.; Legrand S.A.
09/05/2017
20171785 | G | Mitsubishi Chemical Holdings Corporation; NeuroDerm, Ltd.; Mitsubishi Chemical Holdings Corporation.
20171811 | G | K3 Private Investors, L.P.; SecureAuth Corporation; K3 Private Investors, L.P.
20171826 | G | Cargill, Incorporated; Southern States Cooperative, Incorporated; Cargill, Incorporated.
20171827 | G | The Resolute Fund III, L.P.; Roadrunner Transportation Systems, Inc.; The Resolute Fund III, L.P.
20171836 | G | Sonic Financial Corporation; Steve Hall; Sonic Financial Corporation.
20171841 | G | Lindsay Goldberg IV L.P.; WCF Holdings I, LLC; Lindsay Goldberg IV L.P.
20171842 | G | Heritage Insurance Holdings, Inc.; NBIC Holdings, Inc.; Heritage Insurance Holdings, Inc.
20171847 | G | Centerbridge Capital Partners III, L.P.; Highmark Health; Centerbridge Capital Partners III, L.P.
20171850 | G | The Danny Umansky Revocable Living Trust; Kenneth E. Brown; The Danny Umansky Revocable Living Trust.
20171851 | G | The Danny Umansky Revocable Living Trust; William E. Schuiling; The Danny Umansky Revocable Living Trust.
20171854 | G | ArcLight Energy Partners Fund VI, L.P.; Mitsubishi Corporation; ArcLight Energy Partners Fund VI, L.P.
20171856 | G | V.F. Corporation; Williamson-Dickie Holding Company; V.F. Corporation.
20171857 | G | Wolverine Acquisition Holdings, LLC; Jeffrey H. Loria; Wolverine Acquisition Holdings, LLC.
20171864 | G | Signet Jewelers Ltd.; R2NET Inc.; Signet Jewelers Ltd.
20171867 | G | Berkshire Fund IX, L.P.; ABRY Senior Equity IV, L.P.; Berkshire Fund IX, L.P.
20171869 | G | B&G Foods, Inc.; Back to Nature Foods Company, LLC; B&G Foods, Inc.
20171871 | G | Husky Energy Inc.; Calumet Specialty Products Partners, L.P.; Husky Energy Inc.
20171877 | G | Michael E. Upchurch; Trilliant Holdings L.P.; Michael E. Upchurch.
20171884 | G | Green Equity Investors Side VII, L.P.; KTG Holdings, LLC; Green Equity Investors Side VII, L.P.
09/06/2017
20171838 | G | PayPal Holdings, Inc.; Swift Financial Corporation; PayPal Holdings, Inc.
20171880 | G | Republic Services, Inc.; RE Community Holdings, LP; Republic Services, Inc.
09/07/2017
20171764 | G | Berkshire Fund IX, L.P.; Advanced Drainage Systems, Inc.; Berkshire Fund IX, L.P.
20171791 | G | Verizon Communications Inc.; WideOpenWest, Inc.; Verizon Communications Inc.
20171825 | G | Corvex Master Fund LP; Envision Healthcare Corporation; Corvex Master Fund L.P.
20171861 | G | TPG Partners VII, LP; Greenbriar Equity Fund III, L.P.; TPG Partners VII, L.P.
20171862 | G | Cannae Holdings, Inc.; J. Alexander's Holdings, Inc.; Cannae Holdings, Inc.
09/11/2017
20171853 | G | Warburg Pincus Private Equity XII (NDF) L.P.; Tata Motors Limited; Warburg Pincus Private Equity XII (NDF) L.P.
20171875 | G | GSR Electric Vehicle, L.P.; Nissan Motor Co. Ltd.; GSR Electric Vehicle, L.P.
20171876 | G | ICG Strategic Secondaries Fund II LP; Quadriga Capital Private Equity Fund III L.P.; ICG Strategic Secondaries Fund II L.P.
20171882 | G | Kirin Holdings Company, Limited; The Coca-Cola Company; Kirin Holdings Company, Limited.
20171889 | G | Griffon Corporation; Emerson Electric Co.; Griffon Corporation.
20171890 | G | SoftBank Vision Fund (AIV M1) L.P.; WeWork Companies Inc.; SoftBank Vision Fund (AIV M1) L.P.
20171893 | G | Packaging Corporation of America; Joseph LeRoy; Packaging Corporation of America.
20171896 | G | Hawk Holding Company, LLC; Royal Street Corporation; Hawk Holding Company, LLC.
20171900 | G | Partners Group Access 906 L.P.; Green Equity Investors VI, L.P.; Partners Group Access 906 L.P.
20171909 | G | Vistria Fund II, LP; Clearview Capital Fund III, L.P.; Vistria Fund II, LP.
20171914 | G | Newco; LEP Realization Feeder, L.P.; Newco.
09/12/2017
20171822 | G | Heico Corporation; Yosef and Camela Klein; Heico Corporation.
20171824 | G | Dermira, Inc.; Roche Holding Ltd; Dermira, Inc.
20171855 | G | Apax IX USD L.P.; Neville Roy Singham; Apax IX USD L.P.
20171912 | G | Omron Corporation; Spectris plc; Omron Corporation.
20171916 | G | The PNC Financial Services Group, Inc.; Windjammer Senior Equity Fund III, L.P.; The PNC Financial Services Group, Inc.
09/13/2017
20171844 | G | Vista Equity Partners Fund VI, L.P.; Applause App Quality, Inc.; Vista Equity Partners Fund VI, L.P.
20171886 | G | The Resolute Fund III, L.P.; Odyssey Logistics & Technology Corporation; The Resolute Fund III, L.P.
20171891 | G | AMP Capital Global Infrastructure Fund (Non-US), LP; Carlyle Infrastructure Partners, L.P.; AMP Capital Global Infrastructure Fund (Non-US), LP.
20171892 | G | venBio Select Fund Ltd.; Immunomedics, Inc.; venBio Select Fund Ltd.
20171897 | G | Avista Healthcare Public Acquisition Corp.; Envigo International Holdings, Inc.; Avista Healthcare Public Acquisition Corp.
20171906 | G | Daimler AG; Via Transportation, Inc.; Daimler AG.
20171913 | G | American Securities Partners VII, L.P.; Genstar Capital Partners V, L.P.; American Securities Partners VII, L.P.
09/14/2017
20171835 | G | Discovery Communications, Inc.; Extreme Ventures, LLC; Discovery Communications, Inc.
20171915 | G | TCV VIII, L.P.; AI Global Investments & Cy S.C.A.; TCV VIII, L.P.
20171923 | G | GC Lighthouse Holdings, Inc.; Vestar/ISS Investments I, L.P.; GC Lighthouse Holdings, Inc.
09/15/2017
20171870 | G | Recology Employee Stock Ownership Plan; The Ratto Group of Companies Inc.; Recology Employee Stock Ownership Plan.
20171917 | G | Teleflex Incorporated; NeoTract, Inc.; Teleflex Incorporated.
20171920 | G | Tilman J. Fertitta; Leslie Alexander; Tilman J. Fertitta.
20171922 | G | Genstar Capital Partners VIII, L.P.; American Securities Partners VI, L.P.; Genstar Capital Partners VIII, L.P.
20171925 | G | Vistria Fund II, LP; Andrew L. Sandler; Vistria Fund II, LP.
20171926 | G | Wang Laichun; ZF Friedrichshafen AG; Wang Laichun.
20171927 | G | Wang Laisheng; ZF Friedrichshafen AG; Wang Laisheng.
20171928 | G | North Haven CA Aggregator, LLC; Tenex Capital Partners, L.P.; North Haven CA Aggregator, LLC.
20171929 | G | Golden Gate Capital Opportunity Fund LP; PBP Holdco, Inc.; Golden Gate Capital Opportunity Fund LP.
20171936 | G | Quintiles IMS Holdings Incorporated; HighPoint Solutions, LLC; Quintiles IMS Holdings Incorporated.
20171952 | G | Ronald O. Perelman; MaxPoint Interactive, Inc.; Ronald O. Perelman.
09/18/2017
20171833 | G | MTN Infrastructure Sidecar 1 SCSp; SCTG, LLC; MTN Infrastructure Sidecar 1 SCSp.
20171918 | G | SoftBank Vision Fund (AIV M1) L.P.; Plenty Unlimited Inc.; SoftBank Vision Fund (AIV M1) L.P.
20171937 | G | Silver Run Acquisition Corporation II; KFM Holdco, LLC; Silver Run Acquisition Corporation II.
20171938 | G | Silver Run Acquisition Corporation II; High Mesa, Inc.; Silver Run Acquisition Corporation II.
20171949 | G | Platinum Equity Capital Partners International IV (Cayman); Exponent Private Equity Partners II, LP; Platinum Equity Capital Partners International IV (Cayman).
09/19/2017
20171843 | G | The Walt Disney Company; MLB Media Holdings, L.P.; The Walt Disney Company.
20171863 | G | Providence Equity Partners VII-A L.P.; DoubleVerify Inc.; Providence Equity Partners VII-A L.P.
20171942 | G | Snow Phipps III, L.P.; DecoPac, Inc.; Snow Phipps III, L.P.
20171953 | G | Forum Energy Technologies, Inc.; Global Tubing, LLC; Forum Energy Technologies, Inc.
09/20/2017
20171934 | G | Primavera Capital Fund II L.P.; Warburg Pincus Private Equity XI, L.P.; Primavera Capital Fund II L.P.
20171935 | G | Seattle Genetics, Inc.; Immunomedics, Inc.; Seattle Genetics, Inc.
20171946 | G | Ellie Mae, Inc.; Velocify, Inc.; Ellie Mae, Inc.
20171960 | G | Capri Acquisitions Topco Limited; Redtop Holdings Limited; Capri Acquisitions Topco Limited.
09/21/2017
20171846 | G | RealPage, Inc.; On-Site Manager, Inc.; RealPage, Inc.
20171865 | G | United Rentals, Inc.; Wayzata Opportunities Fund II, L.P.; United Rentals, Inc.
09/22/2017
20171963 | G | Zenith Energy U.S., L.P.; Arc Logistics Partners LP; Zenith Energy U.S., L.P.
20171974 | G | Carl C. Icahn; Herbalife Ltd.; Carl C. Icahn
20171978 | G | Madison Dearborn Capital Partners VII-B, L.P.; Platinum Equity Capital Partners III, L.P.; Madison Dearborn Capital Partners VII-B, L.P.
20171979 | G | Voting Trust Agreement dated November 18; Bridgestone Corporation; Voting Trust Agreement dated November 18.
20171982 | G | RCAF VI AIV I-A, L.P.; James K. Waldroop; RCAF VI AIV I-A, L.P.
09/25/2017
20171970 | G | Apax IX USD L.P.; Tom and Ruth Chapman; Apax IX USD L.P.
20171980 | G | Marlin Equity IV AIV, L.P.; AppRiver Holdings, LLC; Marlin Equity IV AIV, L.P.
09/26/2017
20171944 | G | Trian Partners Strategic Investment Fund-N L.P.; The Procter & Gamble Company; Trian Partners Strategic Investment Fund-N L.P.
20171976 | G | Trident VII, L.P.; Hellman & Friedman Capital Partners VII, L.P.; Trident VII, L.P.
20171977 | G | Trident VII Parallel Fund, L.P.; Hellman & Friedman Capital Partners VII, L.P.; Trident VII Parallel Fund, L.P.
09/27/2017
20170803 | G | Integra LifeSciences Holdings Corporation; Johnson & Johnson; Integra LifeSciences Holdings Corporation.
20171939 | G | Volt Parent, LP; Calpine Corporation; Volt Parent, LP.
20171948 | G | K3 Private Investors, L.P.; K2 Private Investors, L.P.; K3 Private Investors, L.P.
20171958 | G | Riva Capital Partners IV, L.P.; JLL Partners Fund VI, L.P.; Riva Capital Partners IV, L.P.
20171962 | G | Gulf Pacific Power, LLC; Enel S.p.A.; Gulf Pacific Power, LLC.
20171964 | G | Pitney Bowes Inc.; Littlejohn Fund IV, L.P.; Pitney Bowes Inc.
20171968 | G | Patterson-UTI Energy, Inc.; Denham Commodity Partners Fund V LP; Patterson-UTI Energy, Inc.
20171972 | G | Dr. Leonard S. Schleifer; Regeneron Pharmaceuticals, Inc.; Dr. Leonard S. Schleifer.
20171986 | G | One Rock Capital Partners, II LP; FXI Holdings, Inc.; One Rock Capital Partners, II LP.
20171987 | G | Accenture plc; Imran A. Shah and Farvah Shah (spouses); Accenture plc.
09/28/2017
20160815 | G | Abbott Laboratories; Alere Inc.; Abbott Laboratories.
20170357 | G | Showa Denko K.K.; SGL Carbon SE; Showa Denko K.K.
20171693 | G | Crown Castle International Corp.; LTS Group Holdings LLC; Crown Castle International Corp.
20171992 | G | Quidel Corporation; Alere Inc.; Quidel Corporation.
09/29/2017
20171818 | G | Grubhub Inc.; Yelp Inc.; Grubhub Inc.
20171985 | G | Nathan Zommer; Littelfuse, Inc.; Nathan Zommer.
20171989 | G | Centene Corporation; New York State Catholic Health Plan, Inc.; Centene Corporation.
20171991 | G | RhythmOne plc; YuMe, Inc.; RhythmOne plc.
20171993 | G | Thomas C. Foley; J.L. Holloway; Thomas C. Foley.
20171995 | G | EQT Mid Market US Limited Partnership; TP Group-CI LLC; EQT Mid Market US Limited Partnership.
20171996 | G | TGP Investors, LLC; TopGolf International, Inc.; TGP Investors, LLC.
20171998 | G | Capgemini SE; Richard B. Lyons; Capgemini SE.
20172000 | G | Summit Partners Growth Equity Fund IX-A, L.P.; RCAF VI AIV I-A, L.P.; Summit Partners Growth Equity Fund IX-A, L.P.
20172003 | G | Carl C. Icahn; Caesars Entertainment Corporation; Carl C. Icahn.
20172017 | G | Mitsubishi Corporation; Cargill Incorporated; Mitsubishi Corporation.

FOR FURTHER INFORMATION CONTACT: Theresa Kingsberry, Program Support Specialist, Federal Trade Commission Premerger Notification Office, Bureau of Competition, Room CC-5301, Washington, DC 20024, (202) 326-3100.

By direction of the Commission.
Donald S. Clark,
Secretary.

[FR Doc. 2017-24589 Filed 11-13-17; 8:45 am]

BILLING CODE 6750-01-P